UNITED STATES PATENT AND TRADEMARK OFFICE

Submission for OMB Review; Comment Request

The United States Patent and Trademark Office (USPTO) has submitted to the Office of Management and Budget (OMB) for clearance the following proposal for collection of information under the provisions of the Paperwork Reduction Act (44 U.S.C. Chapter 35).

Agency: United States Patent and Trademark Office (USPTO).

Title: Electronic Response to Office Action and Preliminary Amendment Forms.

Form Number(s): PTO Forms 1930, 1957, 1966.

Agency Approval Number: 0651-0050.

Type of Request: Revision of a currently approved collection.

Burden: 25,653 hours annually.

Number of Respondents: 150,900 responses per year.

Avg. Hours per Response: The time needed to respond to the request for reconsideration form is estimated to be 10 minutes (0.17 hours). This includes time to gather the necessary information, create the documents, and submit the completed request.

Needs and Uses: This collection is being submitted as a proposed addition in support of a notice of proposed rulemaking, “Changes in the Requirements for Filing Requests for Reconsideration of Final Office Action in Trademark Cases” (RIN 0651-AC05). The USPTO proposes to amend 37 CFR 2.64 to require a request for reconsideration of an examining attorney's final refusal or requirement to be filed through the Trademark Electronic Application System (TEAS) within three months of the mailing date of the final action.

This rulemaking would add an additional requirement to this collection, a Request for Reconsideration after Final Action (Form 1930). The amendment to 37 CFR 2.64 would streamline and promote efficiency in the process once a final action has issued in an application for Trademark registration. By setting a three-month period in which to file a request for reconsideration of the final action, and by requiring that the request be filed through TEAS, the proposed amendment would facilitate the likely disposition of an applicant's request for reconsideration prior to the six-month deadline for filing an appeal to the Trademark Trial and Appeal Board (TTAB) or petition to the Director on the same final action. This practice may eliminate the need for some appeals or petitions, and reduces the need for remands and transfers of applications on appeal.

The proposed earlier deadline and mandatory TEAS filing facilitate the likely disposition of the request for reconsideration prior to the deadline to petition or appeal. A grant of reconsideration within this timeframe will obviate the need for an applicant to file an appeal or petition, thus also saving the applicant the filing fee for an appeal or petition. A denial of reconsideration within this timeframe will obviate the need for a case on appeal to be remanded and transferred between the TTAB and the examining attorney. Under either scenario, the timeframe in the proposed rule promotes more efficient and prompt handling of the case, and achieves benefits both for the applicant and the USPTO.

Affected Public: Individuals or households; business or other for-profit; not-for-profit institutions.

Frequency: On occasion.

Respondent's Obligation: Required to obtain or retain benefits.

OMB Desk Officer: David Rostker, (202) 395-3897.

Copies of the above information collection proposal can be obtained by any of the following methods:

• E-mail: Susan.Fawcett@uspto.gov. Include “0651-0050 copy request” in the subject line of the message.

• Fax: 571-273-0112, marked to the attention of Susan Brown.

• Mail: Susan K. Brown, Records Officer, Office of the Chief Information Officer, Architecture, Engineering and Technical Services, Data Architecture and Services Division, U.S. Patent and Trademark Office, P.O. Box 1450, Alexandria, VA 22313-1450.

Written comments and recommendations for the proposed information collection should be sent on or before April 20, 2007 to David Rostker, OMB Desk Officer, Room 10202, New Executive Office Building, Washington, DC 20503.

Dated: March 15, 2007.
Susan K. Brown,
Records Officer, USPTO, Office of the Chief Information Officer, Architecture, Engineering and Technical Services, Data Architecture and Services Division.

[FR Doc. E7-5137 Filed 3-20-07; 8:45 am]

BILLING CODE 3510-16-P